DEPARTMENT OF COMMERCE

International Trade Administration

[A-560-842, C-331-806, C-533-921, C-552-838]

Frozen Warmwater Shrimp From Indonesia: Antidumping Duty Order; Frozen Warmwater Shrimp From Ecuador, India, and the Socialist Republic of Vietnam: Countervailing Duty Orders

AGENCY: Enforcement and Compliance, International Trade Administration, Department of Commerce.

SUMMARY: Based on affirmative final determinations by the U.S. Department of Commerce (Commerce) and the U.S. International Trade Commission (ITC), Commerce is issuing an antidumping duty (AD) order on frozen warmwater shrimp (shrimp) from Indonesia and countervailing duty (CVD) orders on shrimp from Ecuador, India, and the Socialist Republic of Vietnam (Vietnam).

DATES: Applicable December 26, 2024.

FOR FURTHER INFORMATION CONTACT: Benjamin Nathan (CVD India) at (202) 482-3834; Reginald Anadio or Zachary Shaykin (CVD Ecuador) at (202) 482-3166 or (202) 482-5377, respectively; Rachel Jennings or Miranda Bourdeau (AD Indonesia) at (202) 482-1110 or (202) 482-2021, respectively; and Adam Simons (CVD Vietnam) at (202) 482-6172; AD/CVD Operations, Offices II, IV, V, and IX, respectively, Enforcement and Compliance, International Trade Administration, U.S. Department of Commerce, 1401 Constitution Avenue NW, Washington, DC 20230.

SUPPLEMENTARY INFORMATION:

Background

In accordance with sections 705(d), 735(d), and 777(i) of the Tariff Act of 1930, as amended (the Act), on October 28, 2024, Commerce published its affirmative final determination of sales at less than fair value (LTFV) of shrimp from Indonesia,¹ and its affirmative final determinations that countervailable subsidies are being provided to producers and exporters of shrimp from Ecuador, India, and Vietnam.²

¹ See Frozen Warmwater Shrimp from Indonesia: Final Affirmative Determination of Sales at Less-Than-Fair Value, 89 FR 85498 (October 28, 2024) (Shrimp from Indonesia Final Results).

² See Frozen Warmwater Shrimp from Ecuador: Final Affirmative Countervailing Duty Determination, 89 FR 85506 (October 28, 2024); see also Frozen Warmwater Shrimp from India: Final Affirmative Countervailing Duty Determination, 89 FR 85502 (October 28, 2024); and Frozen Warmwater Shrimp from the Socialist Republic of Vietnam: Final Affirmative Countervailing Duty Determination, 89 FR 85500 (October 28, 2024).

On December 12, 2024, pursuant to sections 705(d) and 735(d) of the Act, the ITC notified Commerce of its final affirmative determinations that an industry in the United States is materially injured by reason of dumped imports of shrimp from Indonesia, and subsidized imports of shrimp from Ecuador, India, and Vietnam, within the meaning of sections 705(b)(1)(A)(i) and 735(b)(1)(A)(i) of the Act.³ On December 17, 2024, the ITC published its final determinations in the Federal Register.⁴

³ See ITC's Letter, “Notification of ITC Final Determination,” dated December 12, 2024 (ITC Notification Letter).

⁴ See Frozen Warmwater Shrimp from Ecuador, India, Indonesia, and Vietnam, 89 FR 102163 (December 17, 2024).

Scope of the Orders

The merchandise covered by these orders is frozen warmwater shrimp from Ecuador, India, Indonesia, and Vietnam. For a complete description of the scope of the orders, see the appendix to this notice.

AD Order

On December 12, 2024, in accordance with section 735(d) of the Act, the ITC notified Commerce of its final determinations that an industry in the United States is materially injured within the meaning of section 735(b)(1)(A)(i) of the Act by reason of imports of shrimp from Indonesia that are sold in the United States at LTFV.⁵ Therefore, in accordance with sections 735(c)(2) and 736 of the Act, Commerce is issuing this AD order. Because the ITC determined that imports of shrimp from Indonesia are materially injuring a U.S. industry, unliquidated entries of such merchandise from Indonesia, entered or withdrawn from warehouse for consumption, are subject to the assessment of antidumping duties.

⁵ See ITC Notification Letter.

Therefore, in accordance with section 736(a)(1) of the Act, Commerce will direct U.S. Customs and Border Protection (CBP) to assess, upon further instruction by Commerce, antidumping duty deposits equal to the amount by which the normal value of the merchandise exceeds the export price (or constructed export price) of the merchandise on all relevant entries of shrimp from Indonesia. Antidumping duties will be assessed on unliquidated entries of shrimp entered, or withdrawn from warehouse, for consumption on or after May 30, 2024, the date of publication of the LTFV Preliminary Determination,⁶ but will not include entries occurring after the expiration of the provisional measures period and before publication of the ITC's final injury determination, as further described below.

⁶ See Frozen Warmwater Shrimp from Indonesia: Preliminary Affirmative Determination of Sales at Less Than Fair Value, Postponement of Final Determination, and Extension of Provisional Measures, 89 FR 46861 (May 30, 2024) (LTFV Preliminary Determination).

Continuation of Suspension of Liquidation and Cash Deposits—AD

Except as noted in the “Provisional Measures—AD” section of this notice, Commerce intends to instruct CBP to continue to suspend liquidation on all relevant entries of shrimp from Indonesia, in accordance with section 736 of the Act. Because the estimated weighted-average dumping margin calculated for PT Bahari Makmur Sejati (BMS) in the Final Determination was zero,⁷ entries of subject merchandise produced and exported by BMS will not be subject to this order. Accordingly, Commerce will direct CBP not to suspend liquidation of, or to require cash deposits of estimated antidumping duties on, entries of subject merchandise produced and exported by BMS. Therefore, in accordance with section 735(a)(4) of the Act and 19 CFR 351.204(e)(1), entries of subject merchandise from this producer/exporter combination will be excluded from the order. However, entries of subject merchandise from BMS in any other producer/exporter combination, or by third parties that sourced subject merchandise from the excluded producer/exporter combination, will be subject to suspension of liquidation and cash deposits of estimated antidumping duties at the all-others rate noted below. These instructions suspending liquidations will remain in effect until further notice.

⁷ Shrimp from Indonesia Final Results, 89 FR at 85499.

Commerce also intends to instruct CBP to require cash deposits equal to the estimated weighted-average dumping margins indicated in the tables below. Accordingly, effective on the date of publication in the Federal Register of the notice of the ITC's final affirmative injury determination, CBP must require, at the same time as importers would normally deposit estimated customs duties on subject merchandise, a cash deposit equal to the rates listed in the table below.

Estimated Weighted-Average Dumping Margins

The estimated weighted-average dumping margins are as follows:

Exporter/producer | Weighted- average dumping margin (percent)
PT Bahari Makmur Sejati | 0.00
PT First Marine Seafoods; PT Khom Foods | 3.90
All Others | 3.90

Provisional Measures—AD

Section 733(d) of the Act states that suspension of liquidation pursuant to an affirmative preliminary determination may not remain in effect for more than four months, except where exporters representing a significant proportion of exports of the subject merchandise request that Commerce extend the four-month period to no more than six months. At the request of exporters that accounted for a significant proportion of exports of shrimp from Indonesia, Commerce extended the four-month period to no more than six months.⁸ In the underlying investigation, Commerce published the LTFV Preliminary Determination on May 30, 2024. Therefore, the six-month period beginning on the date of the publication of the LTFV Preliminary Determination ended on November 25, 2024. Pursuant to section 737(b) of the Act, the collection of cash deposits at the rates listed above will begin on the date of publication of the ITC's final injury determination. Therefore, in accordance with section 736(a)(1) of the Act and our practice, Commerce will instruct CBP to terminate the suspension of liquidation and to liquidate, without regard to antidumping duties, unliquidated entries of shrimp from Indonesia entered, or withdrawn from warehouse, for consumption on or after November 26, 2024, the first day provisional measures were no longer in effect, until and through the day preceding the date of publication of the ITC's final injury determination in the Federal Register. Suspension of liquidation and the collection of cash deposits will resume on the date of publication of the ITC's final determination in the Federal Register.

⁸ See LTFV Preliminary Determination.

CVD Orders

As stated above, based on the above-referenced affirmative final determination by the ITC that an industry in the United States is materially injured within the meaning of section 705(b)(1)(A)(i) of the Act by reason of subsidized imports of shrimp from Ecuador, India, and Vietnam,⁹ in accordance with section 705(c)(2) of the Act, Commerce is issuing these CVD orders. Moreover, because the ITC determined that imports of shrimp from Ecuador, India, and Vietnam are materially injuring a U.S. industry, unliquidated entries of subject merchandise from Ecuador, India, and Vietnam entered, or withdrawn from warehouse, for consumption, are subject to the assessment of countervailing duties.

⁹ See ITC Notification Letter.

Therefore, in accordance with section 706(a) of the Act, Commerce intends to direct CBP to assess, upon further instructions by Commerce, countervailing duties on all relevant entries of shrimp from Ecuador, India, and Vietnam, which are entered, or withdrawn from warehouse, for consumption on or after April 1, 2024, the date of publication of the CVD Preliminary Determinations,¹⁰ but will not include entries occurring after the expiration of the provisional measures period and before the publication of the ITC's final injury determination under section 705(b) of the Act, as further described in the “Provisional Measures—CVD” section of this notice.

¹⁰ See Frozen Warmwater Shrimp from Ecuador: Preliminary Affirmative Countervailing Duty Determination, and Alignment of Final Determination With the Final Antidumping Duty Determination, 89 FR 22379 (April 1, 2024); see also Frozen Warmwater Shrimp from India: Preliminary Affirmative Countervailing Duty Determination, and Alignment of Final Determination With Final Antidumping Duty Determination, 89 FR 22386 (April 1, 2024); and Frozen Warmwater Shrimp from the Socialist Republic of Vietnam: Preliminary Affirmative Countervailing Duty Determination, and Alignment of Final Determination With Final Antidumping Duty Determination, 89 FR 22374 (April 1, 2024) (collectively, CVD Preliminary Determinations). We note that the preliminary determination for Ecuador was subsequently amended. See Frozen Warmwater Shrimp from Ecuador: Amended Preliminary Determination of Countervailing Duty Investigation, 89 FR 31722 (April 25, 2024).

Suspension of Liquidation and Cash Deposits—CVD

In accordance with section 706 of the Act, Commerce intends to instruct CBP to reinstitute the suspension of liquidation of shrimp from Ecuador, India, and Vietnam, effective on the date of publication of the ITC's final affirmative injury determination in the Federal Register, and to assess, upon further instruction by Commerce, pursuant to section 706(a)(1) of the Act, countervailing duties on each entry of subject merchandise in an amount based on the net countervailable subsidy rates below. On or after the date of publication of the ITC's final injury determination in the Federal Register, CBP must require, at the same time as importers would normally deposit estimated customs duties on this merchandise, a cash deposit equal to the rates listed in the table below. These instructions suspending liquidation will remain in effect until further notice. The all-others rate applies to all producers or exporters not specifically listed below, as appropriate.

Estimated Countervailing Duty Subsidy Rates

The estimated countervailing duty subsidy rates are as follows:

Company | Subsidy rate (percent ad valorem)
Ecuador
Industrial Pesquera Santa Priscila S.A ¹¹ | 3.57
Sociedad Nacional de Galápagos C.A ¹² | 4.41
All Others | 3.78
India
Devi Sea Foods Limited ¹³ | 5.87
Sandhya Aqua Exports Private Limited ¹⁴ | 5.63
All Others | 5.77
Vietnam
Soc Trang Seafood Joint Stock Company | 2.84
Thong Thuan Company Limited | 221.82
All Others | 2.84

Provisional Measures—CVD

¹¹ Commerce has found the following companies to be cross-owned with Industrial Pesquera Santa Priscila S.A: Manesil S.A., Produmar S.A., Egidiosa S.A., and Tropical Packing Ecuador S.A.

¹² Commerce has found the following companies to be cross-owned with Sociedad Nacional de Galápagos C.A: Naturisa S.A., Holding Sola & Sola Solacciones S.A., and Empacadora Champmar S.A.

¹³ Commerce has found the following companies to be cross-owned with Devi Sea Foods Limited: Devi Sea Foods Inc, Devee Horizon LLP, Devee Power Corporation Limited, and Devee Superior Feeds Limited.

¹⁴ Commerce has found the following company to be cross-owned with Sandhya Aqua Exports Private Limited: Neeli Sea Foods Private Limited, Vijay Aqua Processors Private Limited, and Neeli Aqua Farms.

Section 703(d) of the Act states that the suspension of liquidation pursuant to an affirmative preliminary determination may not remain in effect for more than four months. Commerce published the CVD Preliminary Determinations on April 1, 2024.¹⁵ As such, the four-month period beginning on the date of the publication of the CVD Preliminary Determinations ended on July 29, 2024.

¹⁵ See CVD Preliminary Determinations.

Therefore, in accordance with section 703(d) of the Act, we instructed CBP to terminate the suspension of liquidation and to liquidate, without regard to countervailing duties, unliquidated entries of shrimp from Ecuador, India, and Vietnam or withdrawn from warehouse, for consumption, on or after July 30, 2024, the date on which the provisional measures expired, until and through the day preceding the date of publication of the ITC's final injury determination in the Federal Register. Suspension of liquidation and the collection of cash deposits will resume on the date of publication of the ITC's final determination in the Federal Register.

Establishment of the Annual Inquiry Service Lists

On September 20, 2021, Commerce published the Final Rule in the Federal Register.¹⁶ On September 27, 2021, Commerce also published the Procedural Guidance in the Federal Register.¹⁷ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

¹⁶ See Regulations to Improve Administration and Enforcement of Antidumping and Countervailing Duty Laws, 86 FR 52300 (September 20, 2021) (Final Rule).

¹⁷ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹⁸

¹⁸ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁹ the new annual inquiry service list will be in place until the following year, when the Opportunity Notice for the anniversary month of the order is published.

¹⁹ See Procedural Guidance, 86 FR at 53206.

Commerce may update an annual inquiry service list at any time as needed based on interested parties' amendments to their entries of appearance to remove or otherwise modify their list of members and representatives, or to update contact information. Any changes or announcements pertaining to these procedures will be posted to the ACCESS website at https://access.trade.gov.

Special Instructions for Petitioner and Foreign Governments

In the Final Rule, Commerce stated that, “after an initial request and placement on the annual inquiry service list, both petitioners and foreign governments will automatically be placed on the annual inquiry service list in the years that follow.” ²⁰ Accordingly, as stated above, the petitioner and the Governments of Ecuador, India, Indonesia, and Vietnam should submit their initial entries of appearance after publication of this notice in order to appear in the first annual inquiry service lists for these orders. Pursuant to 19 CFR 351.225(n)(3), the petitioner and the Governments of Ecuador, India, Indonesia, and Vietnam will not need to resubmit their entries of appearance each year to continue to be included on the annual inquiry service list. However, the petitioner and the Governments of Ecuador, India, Indonesia, and Vietnam are responsible for making amendments to their entries of appearance during the annual update to the annual inquiry service list in accordance with the procedures described above.

²⁰ See Final Rule, 86 FR at 52335.

Notification to Interested Parties

This notice constitutes the AD order with respect to shrimp from Indonesia and the CVD orders with respect to shrimp from Ecuador, India, and Vietnam, pursuant to sections 706(a) and 736(a) of the Act. Interested parties can find a list of AD and CVD orders currently in effect at https://www.trade.gov/datavisualization/adcvd-proceedings.

These orders are issued and published in accordance with sections 706(a) and 736(a) of the Act and 19 CFR 351.211(b).

Dated: December 18, 2024.
Abdelali Elouaradia,
Deputy Assistant Secretary for Enforcement and Compliance.

Appendix

Scope of the Orders

The scope of these orders includes certain frozen warmwater shrimp and prawns whether wild-caught (ocean harvested) or farm-raised (produced by aquaculture), head-on or head-off, shell-on or peeled, tail-on or tail-off, deveined or not deveined, cooked or raw, or otherwise processed in frozen form. “Tails” in this context means the tail fan, which includes the telson and the uropods.

The frozen warmwater shrimp and prawn products included in the scope, regardless of definitions in the Harmonized Tariff Schedule of the United States (HTSUS), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope. In addition, food preparations, which are not “prepared meals,” that contain more than 20 percent by weight of shrimp or prawn are also included in the scope.

Excluded from the scope are: (1) breaded shrimp and prawns (HTSUS subheading 1605.21.1020); (2) shrimp and prawns generally classified in the Pandalidae family and commonly referred to as coldwater shrimp, in any state of processing; (3) fresh shrimp and prawns whether shell-on or peeled (HTSUS subheadings 0306.36.0020 and 0306.36.0040); (4) shrimp and prawns in prepared meals (HTSUS subheadings 1605.21.0500 and 1605.29.0500); (5) dried shrimp and prawns; (6) canned warmwater shrimp and prawns (HTSUS subheading 1605.29.1040); and (7) certain battered shrimp. Battered shrimp is a shrimp-based product: (1) that is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and ten percent of the product's total weight after being dusted, but prior to being frozen; and (5) that is subjected to individually quick frozen (IQF) freezing immediately after application of the dusting layer. When dusted in accordance with the definition of dusting above, the battered shrimp product is also coated with a wet viscous layer containing egg and/or milk, and par-fried.

The products covered by the scope are currently classified under the following HTSUS subheadings: 0306.17.0004, 0306.17.0005, 0306.17.0007, 0306.17.0008, 0306.17.0010, 0306.17.0011, 0306.17.0013, 0306.17.0014, 0306.17.0016, 0306.17.0017, 0306.17.0019, 0306.17.0020, 0306.17.0022, 0306.17.0023, 0306.17.0025, 0306.17.0026, 0306.17.0028, 0306.17.0029, 0306.17.0041, 0306.17.0042, 1605.21.1030, and 1605.29.1010. These HTSUS subheadings are provided for convenience and for customs purposes only and are not dispositive, but rather the written description of the scope is dispositive.

[FR Doc. 2024-30694 Filed 12-23-24; 8:45 am]

BILLING CODE 3510-DS-P